ENVIRONMENTAL PROTECTION AGENCY

40 CFR Part 52

[EPA-R03-OAR-2023-0300; FRL-11403-02-R3]

Air Plan Approval; Pennsylvania; Oil and Natural Gas Control Measures for 2008 and 2015 Ozone National Ambient Air Quality Standards

AGENCY: Environmental Protection Agency (EPA).

ACTION: Final rule.

SUMMARY: The Environmental Protection Agency (EPA) is approving a state implementation plan (SIP) revision submitted by the Commonwealth of Pennsylvania. The revision establishes and requires reasonably available control technology (RACT) requirements for the 2008 and 2015 ozone national ambient air quality standards (NAAQS) for each category of volatile organic compound (VOC) sources in Pennsylvania covered by the EPA's 2016 Control Techniques Guidelines (CTG) for the oil and gas industry. EPA is also approving Allegheny County, Pennsylvania's SIP revision, which incorporates by reference the above Pennsylvania regulations for the 2016 CTG for oil and gas into the Allegheny County SIP with minor changes to reference Allegheny County's existing regulations. This action is being taken under the Clean Air Act (CAA).

DATES: This final rule is effective on October 31, 2024.

ADDRESSES: EPA has established a docket for this action under Docket ID Number EPA-R03-OAR-2023-0300. All documents in the docket are listed on the www.regulations.gov website. Although listed in the index, some information is not publicly available, e.g., confidential business information (CBI) or other information whose disclosure is restricted by statute. Certain other material, such as copyrighted material, is not placed on the internet and will be publicly available only in hard copy form. Publicly available docket materials are available through www.regulations.gov, or please contact the person identified in the For Further Information Contact section for additional availability information.

FOR FURTHER INFORMATION CONTACT: Michael O'Shea, Planning & Implementation Branch (3AD30), Air & Radiation Division, U.S. Environmental Protection Agency, Region III, 1600 John F. Kennedy Boulevard, Philadelphia, Pennsylvania 19103. The telephone number is (215) 814-2064. Dr. O'Shea can also be reached via electronic mail at oshea.michael@epa.gov.

SUPPLEMENTARY INFORMATION: On December 12, 2022, the Pennsylvania Department of Environmental Protection (PADEP) submitted a revision to its SIP establishing RACT requirements for the 2008 and 2015 ozone NAAQS to control VOC emissions from sources covered by EPA's 2016 CTG for the oil and gas industry. On September 8, 2023, PADEP submitted, on behalf of Allegheny County Health Department (ACHD), a revision to the Allegheny County SIP (Allegheny County SIP submission/submittal) incorporating by reference (IBR) the aforementioned Pennsylvania regulations.

I. Background

On June 28, 2024 (89 FR 53932), EPA published a notice of proposed rulemaking (NPRM) for the Commonwealth of Pennsylvania and Allegheny County. In the NPRM, EPA proposed approval of Pennsylvania's SIP submittal and ACHD's SIP submittal. The formal SIP revisions were submitted by Pennsylvania on December 12, 2022 and by PADEP on behalf of ACHD on September 8, 2023.¹ The Pennsylvania submittal establishes RACT requirements for the 2008 and 2015 ozone NAAQS for each category of VOC sources in Pennsylvania covered by EPA's October 27, 2016 “Final Control Techniques Guidelines for the Oil and Natural Gas Industry” (EPA's 2016 Oil and Gas CTG) (81 FR 74798). The Allegheny County, Pennsylvania submittal addresses the same CTG by incorporating the Pennsylvania regulations into the Allegheny County SIP with minor changes to reference Allegheny County's existing regulations. These SIP revisions were submitted to meet the requirement in CAA section 182(b)(2)(A) and (B) that states with ozone nonattainment areas classified as Moderate or above must revise their SIPs to include provisions to implement RACT for each category of VOC sources covered by a CTG document. CAA section 184(b)(1)(B) also extends this RACT obligation to all areas of states within the Ozone Transport Region (OTR). The entire state of Pennsylvania is within the OTR (See CAA section 184(a)), and has one ozone nonattainment area classified as moderate or above.² A more complete discussion of the purpose and history of these SIP revisions can be found in EPA's NPRM.

¹ The PADEP and ACHD SIP submittals are located in the docket for this final rule and can be found under Docket ID Number EPA-R03-OAR-2023-0300 at www.regulations.gov.

² The Pennsylvania portion of the Philadelphia-Wilmington-Atlantic City, PA-NJ-MD-DE area is classified as Serious nonattainment for the 2015 ozone NAAQS (See 89 FR 61025 (July 30, 2024)).

II. Summary of the SIP Revisions and EPA's Analysis

Pennsylvania's and Allegheny County's SIP submissions included two separate sets of nearly identical regulations for two types of oil and natural gas sources as defined by Pennsylvania and Allegheny County: “conventional” oil and gas sources, and “unconventional” oil and gas sources. EPA's 2016 Oil and Gas CTG does not distinguish between the two types of sources. Despite being separate, both regulations (Regulation #7-544, entitled “Control of VOC Emissions from Unconventional Oil and Natural Gas Sources,” and Regulation #7-580, entitled “Control of VOC Emissions from Conventional Oil and Natural Gas Sources,”) ³ are nearly identical and have no technical differences.⁴ ACHD is incorporating by reference the requirements of regulations 7-544 and 7-580 into Allegheny County's regulations.⁵

³ The NPRM incorrectly identified Regulation #7-544 as Conventional well regulations and Regulation #7-580 as Unconventional regulations.

⁴ Both final regulations can be found in the Pennsylvania Bulletin at 52 Pa. B. 7635, and 52 Pa. B. 7587 (December 10, 2022), at www.pacodeandbulletin.gov/Display/pabull?file=/secure/pabulletin/data/vol52/52-50/1925.html&d=reduce (conventional) and www.pacodeandbulletin.gov/Display/pabull?file=/secure/pabulletin/data/vol52/52-50/1924.html&d=reduce (unconventional).

⁵ The ACHD Rules and Regulations in Article XXI, Air Pollution Controls, are amended. The SIP revision adds § 2105.87, “Control of VOC Emissions from Unconventional and Conventional Oil and Natural Gas Industry Sources,” to Article XXI. Section 2105.87 IBRs PADEP's final regulations, which are found at 52 Pa.B. 5287 and 52 Pa.B. 7635.

Regulation #7-580 amends 25 Pennsylvania Code (Pa. Code) Chapter 129 by adding provisions (sections 129.131 through 129.140) imposing RACT-level controls for VOC emissions from certain sources within “conventional” oil and natural gas operations, including recordkeeping and reporting requirements. Regulation #7-544 amends 25 Pa. Code Chapters 121 and 129 by adding provisions (sections 129.121 through 129.130) imposing RACT-level VOC emissions controls for certain sources in “unconventional” oil and natural gas operations, including recordkeeping and reporting requirements. Both sets of regulations apply to similar sources of VOC emissions, including pneumatic controllers, diaphragm pumps, compressors, fugitive emission components, and storage vessels within certain areas.

EPA reviewed Pennsylvania's and Allegheny County's SIP submissions containing regulations establishing RACT requirements for categories of sources identified in EPA's 2016 Oil and Gas CTG for both the 2008 and 2015 Ozone NAAQS, and proposed to approve these submissions as SIP revisions in our June 28, 2024 NPRM. A full discussion of EPA's rationale for approving these SIP submissions is available in the NPRM and also in the EPA's technical support document (TSD) accompanying the NPRM, which is in the docket for this action. EPA's analysis included a discussion of PADEP's economic feasibility analyses for sources covered by the CTG recommendations and of PADEP's comparison of their regulations to those adopted by other states and localities. EPA's analysis also compared requirements for testing, recordkeeping, and reporting of information in PADEP's oil and gas regulations to the 2016 Oil and Gas CTG's recommendations. Other specific requirements of the RACT SIPs and the rationale for EPA's proposed action are explained in more detail in the NPRM and the TSD. The NPRM and TSD are available in the docket for this rule at www.regulations.gov, Docket ID Number EPA-R03-OAR-2023-0300.

III. EPA's Response to Comments Received

EPA received two comments on the proposed rulemaking. One of the comments is not relevant to this action and will not be addressed. Our response to the relevant comment is below. Both comments are available in the docket for this action.

Comment: One commentor was supportive of the proposed revisions. They outlined the impact of air quality on daily life and the impact of reducing VOCs. Overall, the commentor supported the action.

Response: EPA thanks the commentor for this supportive comment.

IV. Final Action

EPA is approving Pennsylvania's December 12, 2022 SIP submittal and Allegheny County's September 8, 2023 SIP submittal as satisfying the CAA requirement to implement RACT for each category of VOC sources covered by EPA's 2016 Oil and Gas CTG, as required by CAA section 182(b)(1)(B) for Moderate ozone nonattainment areas, and also for any VOC sources covered by the EPA 2016 Oil and Gas CTG for states in the Ozone Transport Region, as required by CAA section 184(b)(1)(B), for both the 2008 and 2015 ozone NAAQS.

Specifically, as they appeared in the Pennsylvania Bulletin on December 10, 2022 (52 Pa. B. 7635, and 52 Pa. B. 7587), Pennsylvania added sections 129.121-130 and amended section 121.1 to support the chapter 129 amendments. Additionally, Pennsylvania added sections 129.131-129.140. Furthermore, ACHD IBRed the regulations found at the Pennsylvania Bulletin (52 Pa. B. 7635, and 52 Pa. B. 7587) published on December 10, 2022, into Article XXI of its regulations, creating a new section, § 2105.87. The SIP revision does not include the last sentence of section 2105.87a, which is noted in strikethrough in ACHD's submittal.

V. Incorporation by Reference

In this document, EPA is finalizing regulatory text that includes incorporation by reference. In accordance with requirements of 1 CFR 51.5, EPA is finalizing the incorporation by reference of Pennsylvania's amendments made to 25 Pa. Code Chapter 121 and 129 (relating to general provisions; and standards for sources), and also Allegheny County's incorporation by reference of Pennsylvania's amendments, as described in sections II and IV of this preamble. EPA has made, and will continue to make, these materials generally available through www.regulations.gov and at the EPA Region III Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rule of EPA's approval, and will be incorporated by reference in the next update to the SIP compilation.⁶

⁶ 62 FR 27968 (May 22, 1997).

VI. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act;

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions to Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

PADEP and Allegheny County did not evaluate environmental justice considerations as part of its SIP submittals; the CAA and applicable implementing regulations neither prohibit nor require such an evaluation. EPA did not perform an EJ analysis and did not consider EJ in this action. Consideration of EJ is not required as part of this action, and there is no information in the record inconsistent with the stated goal of E.O. 12898 of achieving environmental justice for people of color, low-income populations, and Indigenous peoples.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by December 2, 2024. Filing a petition for reconsideration by the Administrator of this final rule does not affect the finality of this action for the purposes of judicial review nor does it extend the time within which a petition for judicial review may be filed, and shall not postpone the effectiveness of such rule or action. This action pertaining to reasonably available control technology requirements for the 2008 and 2015 ozone NAAQS related to EPA's 2016 oil and gas control technique guidelines may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Adam Ortiz,
Regional Administrator, Region III.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart NN—Pennsylvania

2. In § 52.2020:

a. The table in paragraph (c)(1) is amended:

i. Under “Chapter 121—General Provisions” by adding a fifth entry for “Section 121.1” before the entry “Section 121.2”; and

ii. Under “Chapter 129—Standards for Sources” adding the subheading “Control of VOC Emissions from Unconventional and Conventional Oil and Natural Gas Sources” and the entries ”Section 129.121” through “Section 129.140” immediately after the entry for “Section 129.107”; and

b. The table in paragraph (c)(2) is amended under the heading “Subpart 7—Miscellaneous VOC Sources” by adding the entry “2105.87” in numerical order.

The additions read as follows:

§ 52.2020 Identification of plan.

* * * * *

(c) * * *

(1) * * *

State citation | Title/subject | State effective date | EPA approval date | Additional explanation/ § 52.2063 citation
Title 25—Environmental Protection
Article III—Air Resources
* * * * * * *
Chapter 121—General Provisions
* * * * * * *
Section 121.1 | Definitions | 12/10/2022 | 10/1/24, [INSERT FEDERAL REGISTER CITATION] | Adds definition for the term “ppm” and amends the following definitions: “CPMS,” “Fugitive emissions,” and “Responsible official” to support the amendments to Chapter 129.
* * * * * * *
Chapter 129—Standards for Sources
* * * * * * *
Control of VOC Emissions from Unconventional and Conventional Oil and Natural Gas Sources
129.121 | General provisions and applicability | 12/10/22 | 10/1/24, [INSERT FEDERAL REGISTER CITATION] | Controlling VOC emissions from unconventional oil and natural gas sources.
129.122 | Definitions, acronyms, and EPA methods | 12/10/22 | 10/1/24, [INSERT FEDERAL REGISTER CITATION] | Controlling VOC emissions from unconventional oil and natural gas sources.
129.123 | Storage vessels | 12/10/22 | 10/1/24, [INSERT FEDERAL REGISTER CITATION] | Controlling VOC emissions from unconventional oil and natural gas sources.
129.124 | Natural gas-driven continuous bleed pneumatic controllers | 12/10/22 | 10/1/24, [INSERT FEDERAL REGISTER CITATION] | Controlling VOC emissions from unconventional oil and natural gas sources.
129.125 | Natural gas-driven diaphragm pumps | 12/10/22 | 10/1/24, [INSERT FEDERAL REGISTER CITATION] | Controlling VOC emissions from unconventional oil and natural gas sources.
129.126 | Compressors | 12/10/22 | 10/1/24, [INSERT FEDERAL REGISTER CITATION] | Controlling VOC emissions from unconventional oil and natural gas sources.
129.127 | Fugitive emissions components | 12/10/22 | 10/1/24, [INSERT FEDERAL REGISTER CITATION] | Controlling VOC emissions from unconventional oil and natural gas sources.
129.128 | Covers and closed vent systems | 12/10/22 | 10/1/24, [INSERT FEDERAL REGISTER CITATION] | Controlling VOC emissions from unconventional oil and natural gas sources.
129.129 | Control devices | 12/10/22 | 10/1/24, [INSERT FEDERAL REGISTER CITATION] | Controlling VOC emissions from unconventional oil and natural gas sources.
129.130 | Recordkeeping and reporting | 12/10/22 | 10/1/24, [INSERT FEDERAL REGISTER CITATION] | Controlling VOC emissions from unconventional oil and natural gas sources.
129.131 | General provisions and applicability | 12/2/22 | 10/1/24, [INSERT FEDERAL REGISTER CITATION] | Controlling VOC emissions from conventional oil and natural gas sources.
129.132 | Definitions, acronyms and EPA methods | 12/2/22 | 10/1/24, [INSERT FEDERAL REGISTER CITATION] | Controlling VOC emissions from conventional oil and natural gas sources.
129.133 | Storage vessels | 12/2/22 | 10/1/24, [INSERT FEDERAL REGISTER CITATION] | Controlling VOC emissions from conventional oil and natural gas sources.
129.134 | Natural gas-driven continuous bleed pneumatic controllers | 12/2/22 | 10/1/24, [INSERT FEDERAL REGISTER CITATION] | Controlling VOC emissions from conventional oil and natural gas sources.
129.135 | Natural gas-driven diaphragm pumps | 12/2/22 | 10/1/24, [INSERT FEDERAL REGISTER CITATION] | Controlling VOC emissions from conventional oil and natural gas sources.
129.136 | Compressors | 12/2/22 | 10/1/24, [INSERT FEDERAL REGISTER CITATION] | Controlling VOC emissions from conventional oil and natural gas sources.
129.137 | Fugitive emissions components | 12/2/22 | 10/1/24, [INSERT FEDERAL REGISTER CITATION] | Controlling VOC emissions from conventional oil and natural gas sources.
129.138 | Covers and closed vent systems | 12/2/22 | 10/1/24, [INSERT FEDERAL REGISTER CITATION] | Controlling VOC emissions from conventional oil and natural gas sources.
129.139 | Control devices | 12/2/22 | 10/1/24, [INSERT FEDERAL REGISTER CITATION] | Controlling VOC emissions from conventional oil and natural gas sources.
129.140 | Recordkeeping and reporting | 12/2/22 | 10/1/24, [INSERT FEDERAL REGISTER CITATION] | Controlling VOC emissions from conventional oil and natural gas sources.
* * * * * * *

* * * * *

(2) * * *

Article XX or XXI citation | Title/subject | State effective date | EPA approval date | Additional explanation/ § 52.2063 citation
Subpart 7—Miscellaneous VOC Sources
* * * * * * *
2105.87 | Control of VOC Emissions from Unconventional and Conventional Oil and Natural Gas Industry Sources | 2/5/23 | 10/1/24, [INSERT FEDERAL REGISTER CITATION] | Incorporates by reference the Pennsylvania Department of Environmental Protection regulations for “unconventional” and “conventional” oil and natural gas sources promulgated at 52 Pa.B. 5287 and 52 Pa.B 7635 (both published on December 10, 2022). The SIP revision does not include the last sentence of § 2105.87.a, which is noted in strikethrough.
* * * * * * *

* * * * *

[FR Doc. 2024-22386 Filed 9-30-24; 8:45 am]

BILLING CODE 6560-50-P